DEPARTMENT OF HOUSING AND URBAN DEVELOPMENT

[Docket No. FR-5681-N-09]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Coast Guard: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040 Washington, DC 20405, (202) 501-0084; Health and Human Services: Ms. Theresa M. Ritta, Chief Real Property Branch, the Department of Health and Human Services, Room 5B-17, Parklawn Building, 5600 Fishers Lane, Rockville, MD 20857, (301) 443-2265; Interior: Mr. Michael Wright, Acquisition & Property Management, Department of the Interior, 1801 Pennsylvania Ave. NW., 4th Floor, Washington, DC 20006, (202) 254-5522; (These are not toll-free numbers).

Dated: February 21, 2013.
Mark Johnston,
Deputy Assistant Secretary for Special Needs.

TITLE V, FEDERAL SURPLUS PROPERTY PROGRAM FEDERAL REGISTER REPORT FOR 03/01/2013

Suitable/Available Properties

Building

California

W. Branch Station

18N31

Happy Camp CA 96039

Landholding Agency: Agriculture

Property Number: 15201310016

Status: Excess

Directions: Bldg. # 49240003

Comments: Off-site removal only; 99 sf.; pumphouse; 15 yrs. vacant; deteriorated

Florida

3 Buildings

Everglades Nat'l Park

Miami FL

Landholding Agency: Interior

Property Number: 61201310002

Status: Excess

Directions: 328A, 328B, 349

Comments: Off-site removal only; sf. varies; deteriorated conditions; movement of these bldgs. may result in complete disassembly; contact Interior for specific details of a property

Massachusetts

24 Buildings

USCG Air Station Cape Cod

Bourne MA 02542

Landholding Agency: Coast Guard

Property Number: 88201310002

Status: Excess

Directions: 5649, 5643, 5664, 5652, 5319, 5327, 5331, 5332, 5338, 5362, 5363, 5365, 5373, 5391, 5654, 5659, 5677, 5673, 5688, 5691, 5694, 5695, 5423, 5375

Comments: Off-site removal only; sf. varies; use varies; poor conditions; w/in restricted area; contact Coast Guard for info. on a specific property & accessibility/removal requirements

Nebraska

Former Omaha Qtrs. Depot

2101 Woolworth Ave.

Omaha NE 68108

Landholding Agency: GSA

Property Number: 54201310005

Status: Surplus

GSA Number: 7-D-NE-0530

Directions: Office #1: 14,520 sf.; office #2: 38,870 sf.; office #3: 11,000 sf.; office #4: 986 sf.; storage: 7,488 sf.; office #5: 12,250 sf.; office#6: 3,720 sf.; Two Gatehouses: 507 sf. each

Comments: 9 Bldgs. sits on 7.25 acres; Admin/Office; 12 mons. vacant; to access coordinate w/88th Army Reserve Command out of Ft. McCoy, WI

Oregon

Dale Residence (1052)

48743 Hwy 395 N.

Dale OR 97880

Landholding Agency: Agriculture

Property Number: 15201310001

Status: Excess

Comments: 894 sf.; residential; 84+ mons. vacant; repairs needed; asbestos; w/in controlled area; contact Ranger District for accessibility

Dale Duplex (1057) (1056)

48743 Hwy 395 N.

Dale OR 97880

Landholding Agency: Agriculture

Property Number: 15201310002

Status: Excess

Comments: 1,376 sf.; residential; repairs needed; w/in controlled area; contact Ranger District for accessibility

Dale Residence (1058)

48743 Hwy 395 N.

Dale OR 97880

Landholding Agency: Agriculture

Property Number: 15201310003

Status: Excess

Comments: 1,830 sf.; residential; 84+ mons. vacant; major repairs needed; asbestos

Dale Residence (1059)

48743 Hwy 395 N.

Dale OR 97880

Landholding Agency: Agriculture

Property Number: 15201310004

Status: Excess

Comments: 1,830 sf.; residential; 84+ mons. vacant; major repairs needed; asbestos; w/in controlled area; contact Ranger District for accessibility

Dale Residence (1060)

48743 Hwy 395 N.

Dale OR 97880

Landholding Agency: Agriculture

Property Number: 15201310005

Status: Excess

Comments: 1,376 sf.; residential; 84+ mons. vacant; repairs needed; lead & asbestos; w/in controlled area; contact Ranger District for accessibility

Dale Residence (1074)

48743 Hwy 395 N.

Dale OR 97880

Landholding Agency: Agriculture

Property Number: 15201310006

Status: Excess

Comments: 1,480 sf.; residential; 84+ mons. vacant; repairs needed; asbestos; w/in controlled area; contact Ranger District for accessibility

Dale Residence (1075)

48743 Hwy 395 N.

Dale OR 97880

Landholding Agency: Agriculture

Property Number: 15201310007

Status: Excess

Comments: 1,480 sf.; residential 84 mons. vacant; repairs needed; asbestos; w/in controlled area; contact Ranger District for accessibility

Dale Residence (1076)

48743 Hwy 395 N.

Dale OR 97880

Landholding Agency: Agriculture

Property Number: 15201310008

Status: Excess

Comments: 1,480 sf.; residential; 84+ mons. vacant; repairs needed; w/in controlled area; contact Ranger District for accessibility

Dale Residence (1082)

48743 Hwy 395 N.

Dale OR 97880

Landholding Agency: Agriculture

Property Number: 15201310009

Status: Excess

Comments: 1,480 sf.; residential; 84+ mons. vacant; major repairs needed; asbestos; w/in controlled area; contact Ranger District for accessibility

Dale Residence (1083)

48743 Hwy 395 N.

Dale OR 97880

Landholding Agency: Agriculture

Property Number: 15201310010

Status: Excess

Comments: 1,480 sf.; residential; 84+ mons. vacant; repairs; asbestos; w/in controlled area; contact Ranger District for accessibility

Dale Residence (1006)

48743 Hwy 395 N.

Dale OR 97880

Landholding Agency: Agriculture

Property Number: 15201310011

Status: Excess

Comments: 684 sf.; residential; 120 mons. vacant; repairs needed; lead based paint; w/in controlled area; contact Ranger District for accessibility

Dale Modular (1098)

48743 Hwy 395 N.

Dale OR 97880

Landholding Agency: Agriculture

Property Number: 15201310012

Status: Excess

Comments: 1,344 sf.; residential; 84+ mons. vacant; fair conditions; asbestos; w/in controlled area; contact ranger District for accessibility

Dale Bunkhouse (1319)

48743 Hwy 395 N.

Dale OR 97880

Landholding Agency: Agriculture

Property Number: 15201310013

Status: Excess

Comments: 2,024 sf.; residential; 84+ mons. vacant; fair conditions; asbestos; w/in controlled area; contact Ranger District for accessibility

Dale Garage

48743 Hwy 395 N.

Dale OR 97880

Landholding Agency: Agriculture

Property Number: 15201310014

Status: Excess

Comments: 360 sf.; storage; 84+ mons. vacant; good conditions; minor repairs; w/in controlled area; contact Ranger District for accessibility

Dale Ranger Station (2002)

48743 Hwy 395 N.

Dale OR 97880

Landholding Agency: Agriculture

Property Number: 15201310015

Status: Excess

Comments: 1,768 sf.; storage; 84+ mons. vacant; poor conditions; asbestos; w/in controlled area; contact Ranger District for accessibility

Dale D.R. Residence (1002)

48743 Hwy 395 N.

Dale OR 97880

Landholding Agency: Agriculture

Property Number: 15201310018

Status: Excess

Comments: 1,830 sf.; residential; 84+ mons. vacant; major repairs needed; asbestos; w/in controlled area; contact Ranger District for accessibility

Suitable/Unavailable Properties

Building

North Carolina

Old Legacy Tower Site

43682 Cape Point Campground Rd.

Buxton NC 27920

Landholding Agency: GSA

Property Number: 54201310006

Status: Excess

GSA Number: 4-U-NC-0739AB

Comments: 402sf. electronics; fair conditions

Unsuitable Properties

Buildings

Maryland

T18 & T21

Animal Center

Dickerson MD 20837

Landholding Agency: HHS

Property Number: 57201310001

Status: Unutilized

Comments: Located on scientific research campus; public access denied & no alternative method to gain access w/out compromising nat'l security

Reasons: Secured Area

Wyoming

Fire Dispatch

3213 Duggleby Dr.

Cody WY 82414

Landholding Agency: Agriculture

Property Number: 15201310017

Status: Unutilized

Comments: Located w/in restricted area; public access denied & no alternative method to gain access w/out compromising nat'l security; 90% of property located on an airport runway

Reasons: Secured Area, Within airport runway clear zone

[FR Doc. 2013-04435 Filed 2-28-13; 8:45 am]

BILLING CODE 4210-67-P